DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission

DATE AND TIME: April 16, 2015, 10:00 a.m.

PLACE: Room 2C, 888 First Street NE., Washington, DC 20426.

STATUS: OPEN.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1016th—Meeting, Regular Meeting
[April 16, 2015, 10:00 a.m.]
Item No. | Docket No. | Company
ADMINISTRATIVE
A-1 | AD02-1-000 | Agency Business Matters.
A-2 | AD02-7-000 | Customer Matters, Reliability, Security and Market Operations.
A-3 | AD15-12-000 | Transmission Investment Metrics.
ELECTRIC
E-1 | RM14-13-000 | Communications Reliability Standards.
E-2 | AD15-11-000 | Electronic Filing Protocols for Commission Forms.
E-3 | RM14-10-000 | Real Power Balancing Control Performance Reliability Standard.
E-4 | RM05-5-024 | Standards for Business Practices and Communication Protocols for Public Utilities.
E-5 | RM15-9-000 | Protection System, Automatic Reclosing, and Sudden Pressure Relaying Maintenance Reliability Standard.
E-6 | RM15-4-000 | Disturbance Monitoring and Reporting Requirements Reliability Standard.
E-7 | AD15-6-000 | Grand River Dam Authority.
E-8 | ER15-418-001 | New England Power Company.
E-9 | OMITTED. |
E-10 | OMITTED
E-11 | QM15-1-000 | Virginia Electric and Power Company.
E-12 | ER15-910-000 | Consumers Energy Company.
E-13 | ER15-976-000 | Wolverine Power Supply Cooperative, Inc..
E-14 | OMITTED. |
E-15 | ER12-91-008 ER12-92-008 | PJM Interconnection, L.L.C., Duke Energy Ohio, Inc. and Duke Energy Kentucky, Inc.
E-16 | EL15-30-000 | San Francisco Bay Area Rapid Transit District v. Pacific Gas and Electric Company.
E-17 | ER13-102-005 ER13-102-006 | New York Independent System Operator, Inc.
E-18 | EC12-15-001 | Michigan Electric Transmission Company, LLC.
E-19 | EL11-42-001 | Astoria Generating Company L.P. NRG Power Marketing LLC. Arthur Kill Power, LLC. Astoria Gas Turbine Power LLC. Dunkirk Power LLC. Huntley Power LLC. Oswego Harbor Power LLC and TC Ravenswood, LLC v. New York Independent System Operator, Inc.
| ER12-2414-000 ER12-2414-001 ER12-2414-002 | New York Independent System Operator, Inc
E-20 | EL11-50-001 | Astoria Generating Company L.P. and TC Ravenswood, LLC v. New York Independent System Operator, Inc.
E-21 | ER13-366-004 ER13-366-005 ER13-367-002 | Southwest Power Pool, Inc.
MISCELLANEOUS
M-1 | RM14-2-000 | Coordination of the Scheduling Processes of Interstate Natural Gas Pipelines and Public Utilities
GAS
G-1 | PL15-1-000 | Cost Recovery Mechanisms for Modernization of Natural Gas Facilities
HYDRO
H-1 | P-2305-044 | Sabine River Authority of Texas. Sabine River Authority, State of Louisiana.
CERTIFICATES
C-1 | CP14-503-000 | Enable Gas Transmission, LLC.
C-2 | CP14-87-001 | Southeast Supply Header, LLC.
C-3 | RP14-638-000 | Atmos Energy Corporation v. American Midstream (Midla), LLC.
| CP14-125-000 CP14-126-000 RP14-689-000 RP14-689-001 RP14-1049-000 RP14-1049-001 RP14-1049-002 (not consolidated) | American Midstream (Midla), LLC.

Issued: April 9, 2015.
Kimberly D. Bose,
Secretary.

A free webcast of this event is available through www.ferc.gov. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2015-08647 Filed 4-10-15; 4:15 pm]

BILLING CODE 6717-01P-